DEPARTMENT OF COMMERCE

Foreign-Trade Zones Board

[Docket T-2-2012]

Foreign-Trade Zone 59, Temporary/Interim Manufacturing Authority, Novartis Consumer Health, Inc., (Pharmaceutical Product Manufacturing); Notice of Approval

On January 12, 2012, the Executive Secretary of the Foreign-Trade Zones (FTZ) Board filed an application submitted by the Lincoln Foreign Trade Zone, Inc., grantee of FTZ 59, requesting temporary/interim manufacturing (T/IM) authority, on behalf of Novartis Consumer Health, Inc., to manufacture pharmaceutical products under FTZ procedures within FTZ 59—Sites 3 and 4, in Lincoln, Nebraska.

The application was processed in accordance with T/IM procedures, as authorized by FTZ Board Orders 1347 (69 FR 52857, 8/30/04) and 1480 (71 FR 55422, 9/22/06), including notice in the Federal Register inviting public comment (77 FR 4758, 1/31/2012). The FTZ staff examiner reviewed the application and determined that it meets the criteria for approval under T/IM procedures. Pursuant to the authority delegated to the FTZ Board Executive Secretary in the above-referenced Board Orders, the application is approved, effective this date, until March 27, 2014, subject to the FTZ Act and the Board's regulations, including Section 400.28.

Dated: March 27, 2012.
Andrew McGilvray,
Executive Secretary.

[FR Doc. 2012-9357 Filed 4-17-12; 8:45 am]

BILLING CODE P